DEPARTMENT OF TRANSPORTATION

Federal Aviation Administration

14 CFR Part 121

[Docket No. FAA-2002-13464; Notice No. 02-17]

RIN 2120-AC84

Improved Seats in Air Carrier Transport Category Airplanes; Correction

AGENCY: Federal Aviation Administration (FAA), DOT.

ACTION: Supplemental notice of proposed rulemaking (SNPRM); correction.

SUMMARY: This document makes a correction to the proposed rule published in the Federal Register on October 4, 2002 (67 FR 62294), which proposes to require that all passenger and flight attendant seats in transport category airplanes used in part 121 passenger-carrying operations meet improved crashworthiness standards. The FAA inadvertently retained a paragraph in the preamble that should have been removed in the editing process of the original SNPRM. This document removes that paragraph.

FOR FURTHER INFORMATION CONTACT: Hal Jensen, Aircraft Certification Service, Aircraft Engineering Division, AIR-120, Federal Aviation Administration, 800 Independence Avenue, SW., Washington, DC 20591; telephone (202) 267-8807; facsimile (202) 267-5340.

SUPPLEMENTARY INFORMATION: On October 4, 2002, the FAA published Notice No. 02-17, Improved Seats in Air Carrier Transport Category Airplanes (67 FR 62294). The SNPRM proposed to amend the regulations to require that all passenger and flight attendant seats in transport category airplanes used in part 121 passenger-carrying operations meet improved crashworthiness standards. The FAA inadvertently retained a paragraph in the preamble that should have been removed in the editing process of the original SNPRM. In the preamble discussion of the new proposal, on page 62299, in the third column, the third paragraph states that the FAA is proposing an amendment to 14 CFR 121.583(a). The FAA does not propose an amendment to 14 CFR 121.583 and intended that this paragraph be removed in the editing process. This document removes that paragraph..

Correction

In proposed rule FR Doc. 02-25051, published on October 4, 2002 (67 FR 62294), make the following correction:

1. On page 62299, in the third column, remove the third full paragraph, which begins “The FAA also notes * * *”.

Issued in Washington, DC on December 13, 2002.
Donald P. Byrne,
Assistant Chief Counsel for Regulations.

[FR Doc. 02-32144 Filed 12-20-02; 8:45 am]

BILLING CODE 4910-13-P